FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 9, 2011.

A. Federal Reserve Bank of Cleveland (Nadine Wallman, Vice President) 1455 East Sixth Street, Cleveland, Ohio 44101-2566:

1. David J. Bursic and Valerie L. Bursic, both of Pittsburgh, Pennsylvania; to acquire voting shares of WVS Financial Corp., and thereby indirectly acquire voting shares of West View Savings Bank, both in Pittsburgh, Pennsylvania.

B. Federal Reserve Bank of Minneapolis (Jacqueline G. King, Community Affairs Officer) 90 Hennepin Avenue, Minneapolis, Minnesota 55480-0291:

1. Danita Louise McVay, as executor, of the M.D. McVay Estate, and Trustee of the Mary M. McVay Family Trust, the Elizabeth McVay Greene Irrevocable Trust, and the Marianna Marcelle Greene Irrevocable Trust; all in Minneapolis, Minnesota, and Jenny Lynn Verner, Victoria, Minnesota, Zachary Miller Zacek, Chicago, Illinois, Elizabeth McVay Greene, Brooklyn, New York, and Marianna Marcelle Greene, Minneapolis, Minnesota, to join the McVay Family Group, and retain voting shares of Minnwest Corporation, Minnetonka, Minnesota, and thereby indirectly retain voting shares of Minnwest Bank, M.V., Redwood Falls, Minnesota; Minnwest Bank South, Tracy, Minnesota; Minnwest Bank Luverne, Luverne, Minnesota; Minnwest Bank Central, Montevideo, Minnesota; Minnwest Bank Metro, Eagan, Minnesota, and Minnwest Bank Sioux Falls, Sioux Falls, South Dakota.

Board of Governors of the Federal Reserve System, November 21, 2011.
Robert deV. Frierson,
Deputy Secretary of the Board.

[FR Doc. 2011-30355 Filed 11-23-11; 8:45 am]

BILLING CODE 6210-01-P